DEPARTMENT OF AGRICULTURE

Forest Service

Wayne National Forest; Revised Land and Resource Management Plan; Athens, Gallia, Hocking, Jackson, Lawrence, Monroe, Morgan, Noble, Perry, Scioto, Vinton and Washington Counties, OH

AGENCY: Forest Service, USDA.

ACTION: Notice of intent to prepare an environmental impact statement (EIS).

SUMMARY: The USDA Forest Service intends to prepare an environmental impact statement for revising the Wayne National Forest Land and Resource Management Plan (Forest Plan). The revised Forest Plan will replace the current Forest Plan, which the Regional Forester approved January 4, 1988, and has been amended 12 times. The 1988 Forest Plan as amended will remain in effect until this revision effort is completed. This notice identifies the topics that will help focus our revision effort, lists possible changes to the Forest Plan, displays the estimated dates for filing the Draft EIS, provides information concerning public participation, and provides the names and addresses of the responsible agency official and the individuals who can provide additional information.

DATES: We need to receive your comments on this Notice of Intent in writing within 90 days after this Notice is published in the Federal Register. The Draft EIS and draft revised Forest Plan are expected to be available for public review by December 2004. The Final EIS and revised Forest Plan are expected to be completed by December 2005.

ADDRESSES: Send written comments to: NOI-FP Revision, Wayne National Forest, 13700 US Highway 33, Nelsonville, OH 45764, or direct electronic mail to: “r9_wayne_website@fs.fed.us”, and “ATTN: Forest Plan Revision” in the subject line.

FOR FURTHER INFORMATION CONTACT: Bob Gianniny, Forest Planner; Ken Arbogast, Forest Public Affairs Officer; Rebecca Ewing, Forest Biologist; or Connie Roberts, Planning Management Assistant; at the address listed in the previous section, or by calling 740-753-0101; fax number 740-753-0118; or TDD 800-877-8339. Further information can also be obtained by sending electronic mail to: “r9_wayne_website@fs.fed.us”, or by accessing the forest Web page at www.fs.fed.us/r9/wayne.

Responsible Official: The Responsible Official for this action is Donald L. Meyer, Acting Regional Forester, Eastern Region, 310 W. Wisconsin Ave., Milwaukee, Wisconsin 53203.

SUPPLEMENTARY INFORMATION: The Regional Forester for the Eastern Region gives notice of the agency's intent to prepare an EIS to revise the Wayne National Forest Plan pursuant to 16 U.S.C. 1604(f)(5) and USDA Forest Service National Forest System Land and Resource Management Planning regulations. The Regional Forester approved the original Wayne National Forest Plan in January 1988. This plan guides the overall management of the Wayne National Forest.

Forest Plan Decisions

We make six primary decisions in the Forest Plan:

1. Forest-wide multiple-use goals and objectives. Goals describe a desired condition to be achieved sometime in the future. Objectives are concise, time-specific statements of measurable planned results that respond to the goals.

2. Forest-wide management requirements (standards and guidelines.) These are limitations on management activities, or advisable courses of action that apply across the entire forest.

3. Management area direction applying to future activities in each management area. This is the desired future condition specified for certain portions of the forest, and the accompanying standards and guidelines to help achieve that condition.

4. Lands suited and not suited for resource use and production (timber management, grazing, etc.)

5. Monitoring and evaluation requirements needed to gauge how well the plan is being implemented.

6. Recommendations to Congress, if any (such as Wilderness or Wild and Scenic River designation)

The scope of this Revision is limited to changing only those portions of the current Forest Plan that need revision, update, or correction. We propose to narrow the scope of revising the Forest Plan by focusing on topics identified as being most critically in need of change. The six decisions listed above will be revisited only in how they apply to the revision topics that are identified.

Purpose and Need for Action

There are three compelling reasons to revise the 1988 Forest Plan: (1) Nearly 15 years have passed since the Regional Forester approved the original Forest Plan for the Wayne National Forest and national forests must revise the forest plan at least every 15 years according to requirements of the National Forest Management Act (U.S.C. 1604[f][5]); (2) agency goals and objectives, along with other national guidance for strategic plans and programs, have changed more than can effectively be covered by additional forest plan amendments and (3) incorporate new information and address changed conditions.

Background—The Setting

The Wayne National Forest forms the core of the hill country of southeastern Ohio, the most heavily forested part of the state. Just 200 years ago, this region of the Appalachian plateau was viewed by most Americans as part of a vast wilderness. Today many people still view the Wayne as a remnant of the forest primeval. But the impacts of historic industry and agricultural practices have left indelible marks upon the land. Virtually all of the forest that covered Ohio when American settlers arrived was cut to make way for farms and to fuel both home and industry. Mining for iron ore, limestone, coal and clay scarred hillsides and polluted many streams. As factories closed and farms failed in the 1930s, the Forest Service began to acquire and restore what were once dubbed “the lands that nobody wanted.” After nearly 70 years, the innate resilience of the hill country forest, enhanced by the work of the Forest Service and countless partners, has created a new forest that many people now value for its opportunities: to experience nature; to enjoy a variety of recreation; to explore the unique heritage of Southeast Ohio, once a major link in the Underground Railroad; and to employ the Forest's resources for the region's economic development.

Today, most of Ohio is dominated by rich farmland, industrial cities, sprawling suburbs and busy highways; and ranks 7th among states in population and 47th in public lands per capita. This scarcity of public lands creates intense competing demands for the Wayne's limited landbase and resources. The challenge for those who choose to participate in the revision of the Forest Plan is to provide information and ideas that will help the Forest Service balance those competing demands in a way that will continue to provide for multiple uses of the Wayne National Forest. Given the significant impact that past practices by the region's agriculture and industries have had upon the land, the Forest Plan management direction will continue to place special priority upon the restoration of the forest, the lands, the watersheds and the ecosystem.

Proposed Action

The revision of the Wayne Forest Plan will focus on management direction identified as needing change. The following Revision Topics were identified through public comment, through monitoring and evaluation, and through experience with implementation of the Forest Plan since 1988:

1. Watershed Health:

• Protect and restore watershed health, including restoration of abandoned mine lands;

• Protect riparian areas.

2. Ecosystem Restoration:

• Restore the mixed oak ecosystem to a sustainable level;

• Use vegetative management techniques to move toward the desired future condition;

• Control non-native invasive species;

• Provide a range of ecological conditions to maintain diversity of native plants and animals.

3. Recreation Management:

• Provide a visually pleasing landscape;

• Maintain the range of recreation opportunities currently available;

• Provide trails for motorized and non-motorized users;

• Manage pre-historic and historic cultural resources, including preservation of sites associated with the Underground Railroad.

4. Land Ownership:

• Acquire and exchange land to increase contiguous Federal ownership and reduce the existing fragmented ownership pattern;

• Manage National Forest boundaries to reduce trespass and encroachments.

5. Minerals Resource Management:

• Minimize adverse environmental impacts to Federal resources when private mineral rights are developed;

• Identify areas appropriate for leasing of federally held oil and gas rights consistent with national direction.

6. Roadless Area Inventory and Evaluation; Wilderness Recommendation; and Wild and Scenic River Recommendations:

• Protect the wilderness characteristics of those areas identified for potential wilderness designation;

• Protect rivers eligible for inclusion in the national Wild and Scenic Rivers system.

Based on these Revision Topics and action items, the Forest planning team is gathering information for an analysis of current and projected uses, demand, and capabilities of the Forest. Data gathering/analyses that are either underway or planned include a recreation feasibility study, a social assessment, evaluation of potential roadless areas, evaluation of rivers for designation as Wild, Scenic or Recreation status, and species viability evaluations. Another analysis will compare historical and current ecological conditions within the Forest and across the broader landscape of southeastern Ohio. Collectively this information and analysis will contribute to our Analysis of the Management Situation. The studies, and related references compiled by the planning team, will be made available for public review when completed.

In addition to the Revision Topics, we propose to revise the Forest Plan to:

• Make minor changes throughout the Forest Plan for new or updated information;

• Update the monitoring and evaluation strategy in the current Forest Plan.

Additional detail on the Revision Topics is available on request. You may request the additional information by: accessing the Forest Web page at www.fs.fed.us/r9/wayne by writing or e-mailing to the address listed in this notice; or by calling the phone number listed above. You are encouraged to review this additional documentation before commenting on the Notice of Intent.

Topics Not Addressed in This Revision

Forest plan decisions do not change laws, regulations or rights. The revised Forest Plan will only make decisions that apply to National Forest System lands. The Forest Plan will make no decisions regarding management or use of privately owned lands or reserved and outstanding mineral estates. Topics related to implementing projects or enforcing regulations are also beyond the scope of what can be decided in a forest plan.

The management guidelines related to Threatened and Endangered species are not included as a revision topic because the Forest is currently amending the existing Forest Plan based on formal consultation with the USDI Fish and Wildlife Service. All information will be brought forward into the revised Forest Plan and does not need to be duplicated during the revision process. The alternatives in the Final EIS will be analyzed for their effects on Threatened and Endangered species.

Public comments received on topics that will not be addressed in the revised Forest Plan will be forwarded to the managers responsible for that topic area. The comments will be considered as managers develop information and proposals related to those topics. Such proposals may result in future plan amendments, changes in implementation, changes in program emphasis, or various other means of addressing the concerns related to a particular topic. Implementation of proposals will be addressed as budget priorities allow.

Possible Alternatives

We will consider a range of alternatives to the proposed action when revising the Forest Plan. Alternatives will be developed to address different options to resolve issues raised about the proposed action, and the Revision Topics and proposals listed above, and to fulfill the purpose and need described earlier in this document. Alternatives will provide different ways to address and respond to issues identified during the scoping process. A “No Action” alternative is required and will be considered. For this analysis, the No Action alternative means that management would continue under the existing Forest Plan as amended.

Decision Framework

The Responsible Official will decide on the management direction for the Wayne National Forest. The Responsible Official's choices will include:

1. The Proposed Action described in this Notice of Intent;

2. The No Action Alternative which would continue management under the current Forest Plan as amended; and

3. Alternatives developed during the revision process to address issues raised about the Proposed Action.

Inviting Public Participation

After the publication of this Notice of Intent, we will provide opportunities for public involvement including: 90-day formal comment period, public meetings, written comments, Web site and e-mail. The Forest Service will host a series of public meetings to (1) establish multiple opportunities for the public to generate ideas, concerns, and alternatives, (2) present and clarify proposed changes to the Forest Plan; (3) describe ways that individuals can respond to this Notice of Intent; and (4) invite comments from the public on this proposal for revising the Forest Plan.

The table below is the schedule of initial meetings that will be held during the 90-day comment period.

Community | Date | Time | Location
Canton, Ohio | 6/25/02 | 5-9 p.m | Four Points Sheraton, 4375 Metro Circle NW., (330) 494-7129.
Cincinnati, Ohio | 6/04/02 | 5-9 p.m | Clarion Hotel & Suites, 5901 Pfeiffer Rd., (513) 793-4500.
Cleveland area—Independence, Ohio | 6/24/02 | 5-9 p.m | Holiday Inn, 6001 Rockside Rd., (216) 524-8050.
Columbus area—Dublin, Ohio | 6/10/02 | 5-9 p.m | Embassy Suites Hotel, 5100 Upper Metro Pl., (614) 790-9000.
Dayton area—Fairborn, Ohio | 6/03/02 | 5-9 p.m | Wright State Univ., Student Union Bldg., 3640 Colonel Glenn, (937) 775-5512.
Graysville, Ohio | 6/22/02 | 1-5 p.m | Community Center, 38851 State Rt. 26, (740) 934-2245.
Huntington, West Virginia | 6/05/02 | 5-9 p.m | Radisson Hotel, 1001 Third Avenue, (304) 525-1001.
Logan, Ohio | 6/13/02 | 5-9 p.m | Logan-Hocking Middle, 1 Middle School Drive, (740) 385-8764.
Rio Grande, Ohio | 6/29/02 | 1-5 p.m | U. of Rio Grande, Fine Arts Center F23, (740) 245-7404.
Zanesville, Ohio | 6/26/02 | 5-9 p.m | Holiday Inn, 4645 East Pike, (740) 453-0771.

From mid-2002 through mid-2004, we will validate issues and develop alternatives. We will provide many types of public involvement in support of alternative development, including: Public workshops, collaborative meetings, written comments, website, and e-mail.

Late in the year 2004 we will release our proposed revised Forest Plan and a draft environmental impact statement. We will again provide many types of public involvement including 90-day formal comment period, public meetings, and written comments.

During most of 2005 we will address the public comment and revise the Draft EIS based on those comments and further analysis. In late 2005, we will release the decision, final revised Forest Plan, Final EIS, and record of decision. We will provide informational meetings to explain these documents and decision on the final Forest Plan.

Availability of Public Comment

Comments received in response to this solicitation, including names and addresses of those who comment, will be considered part of the public record on this proposed action and will be available for public inspection.

Additionally, pursuant to 7 CFR 1.27(d), any persons may request the agency to withhold a submission from the public record by showing how the Freedom of Information Act (FOIA) permits such confidentiality. Persons requesting such confidentiality should be aware that, under FOIA, confidentiality may be granted in only very limited circumstances, such as to protect trade secrets.

The Forest Service will inform the requester of the agency's decision regarding the request for confidentiality and where the requester is denied, the agency will return the submission and notify the requester that the comments may be resubmitted with or without name and address within 90 days.

Comment Requested

This Notice of Intent initiates the scoping process which assists the Forest Service in the development of the environmental impact statement. Comments will be most helpful if they are written and are specific in nature, stating not only the area of concern but also the reason for the concern.

Proposed New Planning Regulations

The Department of Agriculture published new planning regulations in November of 2000. Concerns regarding the ability to implement these regulations prompted a review with probable revision of these regulations. On May 10, 2001, Secretary Veneman signed an interim final rule allowing forest plan amendments or revisions initiated before May 9, 2002, to proceed either under the new planning rule or under the 1982 planning regulations. The Wayne National Forest revision process will start under the 1982 planning regulations, pending future direction in revised regulations.

Early Notice of Importance of Public Participation in Subsequent Environmental Review

A Draft EIS will be prepared for comment. The comment period on the draft environmental impact statement will be 90 days from the date the Environmental Protection Agency publishes the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period for the draft environmental impact statement so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council of Environmental Quality Regulations (http://ceq.eh.doe.gov/nepa/nepanet.htm) for implementing the procedural provision of the National Environmental Policy Act at 40 CFR 1503.3 in addressing these points.

(Authority: 40 CFR 1501.7 and 1508.22; Forest Service Handbook 1909.15, Section 21)
Dated: March 28, 2002.
Donald L. Meyer,
Acting Regional Forester.

[FR Doc. 02-8124 Filed 4-3-02; 8:45 am]

BILLING CODE 3410-11-P